DEPARTMENT OF COMMERCE

National Oceanic and Atmospheric Administration

Proposed Information Collection; Comment Request; Economic Value of Puerto Rico's Coral Reef Ecosystems for Recreation-Tourism

AGENCY: National Oceanic and Atmospheric Administration (NOAA), Commerce.

ACTION: Notice.

SUMMARY: The Department of Commerce, as part of its continuing effort to reduce paperwork and respondent burden, invites the general public and other Federal agencies to take this opportunity to comment on proposed and/or continuing information collections, as required by the Paperwork Reduction Act of 1995.

DATES: Written comments must be submitted on or before March 10, 2014.

ADDRESSES: Direct all written comments to Jennifer Jessup, Departmental Paperwork Clearance Officer, Department of Commerce, Room 6616, 14th and Constitution Avenue NW., Washington, DC 20230 (or via the Internet at JJessup@doc.gov).

FOR FURTHER INFORMATION CONTACT: Requests for additional information or copies of the information collection instrument and instructions should be directed to Dr. Vernon R. (Bob) Leeworthy, (301) 713-7261 or Bob.Leeworthy@noaa.gov.

SUPPLEMENTARY INFORMATION:

I. Abstract

This request is for a regular submission (new information collection).

NOAA and the U.S. Environmental Protection Agency (EPA) have entered a partnership to estimate the market and non-market economic values of Puerto Rico's coral reef ecosystems. Estimates will be made for all ecosystem services for the Guanica Bay Watershed and for recreation-tourism for all of Puerto Rico's coral reef ecosystems.

We will conduct surveys of visitors to Puerto Rico and residents of Puerto Rico who use the coral reef ecosystems to estimate the amount and type of use, their spending while undertaking coral reef use activities, the economic value of reef attributes (e.g. water clarity/visibility, coral abundance and diversity, fish and invertebrate abundance and diversity, and opportunity to see large wildlife) and how economic value changes with changes in reef attributes.

II. Method of Collection

Visitors to the island will be recruited into an Internet Panel via stratified random sampling at the various access modes of transportation to the island (e.g. airports, cruise ship docks and ferries). The panel recruitment surveys will use a short-form (5 to 10 minutes) to gather information of place of permanent residence, length of stay in Puerto Rico, activities participated in while on their stay, and demographic information. A tally sheet will be used to screen survey participants for coral reef use. This will then allow for connection to air enplanement data, cruise ship passenger data, and ferry passenger data to estimate the total number of reef users. Those who agree to the Internet Panel will then be asked more detailed questions on intensity of coral reef use (person-days of reef activity by type of activity), spending while doing reef activities, and economic value of reef attributes. For those who do not want to join the Internet Panel, they will be offered mail back surveys to gather the information that would be gathered in the Internet Panels.

Residents of the island will be surveyed face-to-face in the home. Information on activity participation and use of the coral reefs, demographics, and economic value of coral reefs and how those values change with changes in reef attributes will be gathered in the face-to-face in-home surveys. Additional mail backs will be used for importance-satisfaction ratings and spending while recreating on the coral reefs.

III. Data

OMB Control Number: None.

Form Number: None.

Type of Review: Regular submission (new information collection).

Affected Public: Individuals or households.

Estimated Number of Respondents: 2,000.

Estimated Time per Response: 2 hours per individual/household.

Estimated Total Annual Burden Hours: 4,000.

Estimated Total Annual Cost to Public: $0 in recordkeeping/reporting costs.

IV. Request for Comments

Comments are invited on: (a) Whether the proposed collection of information is necessary for the proper performance of the functions of the agency, including whether the information shall have practical utility; (b) the accuracy of the agency's estimate of the burden (including hours and cost) of the proposed collection of information; (c) ways to enhance the quality, utility, and clarity of the information to be collected; and (d) ways to minimize the burden of the collection of information on respondents, including through the use of automated collection techniques or other forms of information technology.

Comments submitted in response to this notice will be summarized and/or included in the request for OMB approval of this information collection; they also will become a matter of public record.

Dated: January 3, 2014.
Gwellnar Banks,
Management Analyst, Office of the Chief Information Officer.

[FR Doc. 2014-00120 Filed 1-8-14; 8:45 am]

BILLING CODE 3510-NK-P